DEPARTMENT OF THE INTERIOR

Fish and Wildlife Service

[Docket No. FWS-HQ-IA-2014-0018; 96300-1671-0000-R4]

Conference of the Parties to the Convention on International Trade in Endangered Species of Wild Fauna and Flora (CITES); Seventeenth Regular Meeting: Proposed Resolutions, Decisions, and Agenda Items Being Considered; Observer Information

AGENCY: Fish and Wildlife Service, Interior.

ACTION: Notice.

SUMMARY: The United States, as a Party to the Convention on International Trade in Endangered Species of Wild Fauna and Flora (CITES), may submit proposed resolutions, decisions, and agenda items for consideration at meetings of the Conference of the Parties to CITES. The United States may also propose amendments to the CITES Appendices for consideration at meetings of the Conference of the Parties. The seventeenth regular meeting of the Conference of the Parties to CITES (CoP17) is scheduled to be held in Johannesburg, South Africa, September 24 to October 5, 2016. With this notice, we describe proposed resolutions, decisions, and agenda items that the United States is considering submitting for consideration at CoP17; invite your comments and information on these proposals; and provide information on how non-governmental organizations based in the United States can attend CoP17 as observers.

DATES: We will consider all information and comments you submit concerning proposed resolutions, decisions, and agenda items that the United States is considering submitting for consideration at CoP17, if we receive them on or before February 2, 2016.

ADDRESSES: You may submit comments pertaining to proposed resolutions, decisions, and agenda items for discussion at CoP17 by one of the following methods:

• Federal eRulemaking Portal: http://www.regulations.gov. Follow the instructions for submitting comments on Docket No. FWS-HQ-IA-2014-0018 (the docket number for this notice).

• U.S. mail or hand-delivery: Public Comments Processing, Attn: FWS-HQ-IA-2014-0018; Division of Policy, Performance, and Management Programs; U.S. Fish and Wildlife Service; 5275 Leesburg Pike, MS BPHC; Falls Church, VA 22041.

We will not consider comments sent by email or fax, or to an address not listed in the ADDRESSES section. Comments and materials we receive in response to this notice will be posted for public inspection on http://www.regulations.gov, or by appointment, between 8 a.m. and 4 p.m., Monday through Friday, except Federal holidays, at the U.S. Fish and Wildlife Service, Division of Management Authority, 5275 Leesburg Pike, 2nd Floor, Falls Church, VA 22041; telephone 703-358-2095.

Requests for approval to attend CoP17 as an observer should be sent to the Division of Management Authority, U.S. Fish and Wildlife Service, 5275 Leesburg Pike, MS: IA, Falls Church, VA 22041; or via email at: managementauthority@fws.gov; or via fax at: 703-358-2298.

For the latest news and information regarding U.S. preparations for CoP17, please visit our Web site at http://www.fws.gov/international/CITES/CoP17/index.html.

FOR FURTHER INFORMATION CONTACT: For information pertaining to resolutions, decisions, and agenda items, contact: Craig Hoover, Chief, Division of Management Authority, at 703-358-2162 (phone); 703-358-2298 (fax); managementauthority@fws.gov (email). For information pertaining to species proposals contact: Rosemarie Gnam, Chief, Division of Scientific Authority, at 703-358-1708 (phone); 703-358-2276 (fax); or scientificauthority@fws.gov (email). If you use a telecommunications device for the deaf (TDD), call the Federal Information Relay Service (FIRS) at 800-877-8339.

SUPPLEMENTARY INFORMATION:

Background

The Convention on International Trade in Endangered Species of Wild Fauna and Flora, hereinafter referred to as CITES or the Convention, is an international treaty designed to regulate international trade in certain animal and plant species that are now, or potentially may become, threatened with extinction. These species are listed in Appendices to CITES, which are available on the CITES Secretariat's Web site at http://www.cites.org/eng/app/appendices.php. Currently, 180 countries, including the United States, and one regional economic integration organization, the European Union, are Parties to CITES. The Convention calls for regular biennial meetings of the Conference of the Parties, unless the Conference of the Parties decides otherwise. At these meetings, the Parties review the implementation of CITES, make provisions enabling the CITES Secretariat to carry out its functions, consider amendments to the lists of species in Appendices I and II, consider reports presented by the Secretariat, and make recommendations for the improved effectiveness of CITES. Any Party to CITES may propose amendments to Appendices I and II, resolutions, decisions, and agenda items for consideration by all the Parties at the meetings.

This is our fourth in a series of Federal Register notices that, together with an announced public meeting (time and place to be announced), provide you with an opportunity to participate in the development of the U.S. submissions to, and negotiating positions for, the seventeenth regular meeting of the Conference of the Parties to CITES (CoP17). We published our first CoP17-related Federal Register notice on June 27, 2014 (79 FR 36550), in which we requested information and recommendations on species proposals for the United States to consider submitting for consideration at CoP17. In that notice, we also described the U.S. approach to preparations for CoP17. We published our second such Federal Register notice on May 11, 2015 (80 FR 26948), in which we requested information and recommendations on proposed resolutions, decisions, and agenda items for the United States to consider submitting for consideration at CoP17, and provided preliminary information on how to request approved observer status for non-governmental organizations that wish to attend the meeting. In our third CoP17-related Federal Register notice, published on August 26, 2015 (80 FR 51830), we requested public comments and information on species proposals that the United States is considering submitting for consideration at CoP17. You may obtain additional information on those Federal Register notices from the following sources: For information on proposed resolutions, decisions, and agenda items, contact the Division of Management Authority at the address provided above in the ADDRESSES section; and for information on species proposals, contact the Division of Scientific Authority, U.S. Fish and Wildlife Service, 5275 Leesburg Pike, MS: IA, Falls Church, VA 22041. Our regulations governing this public process are found in title 50 of the Code of Federal Regulations (CFR) at § 23.87.

Recommendations for Resolutions, Decisions, and Agenda Items for the United States To Consider Submitting for CoP17

In our Federal Register notice published on May 11, 2015 (80 FR 26948), we requested information and recommendations on potential resolutions, decisions, and agenda items for the United States to submit for consideration at CoP17. We received information and recommendations from the following organizations: American Federation of Violin and Bow Makers; American Society of Mammalogists; Animal Welfare Institute; Campaign Against Canned Hunting; Center for International Environmental Law; Chamber Music America; Environmental Investigation Agency; Free Morgan Foundation; Friends of Animals; Global March for Elephants and Rhinos; International Environmental Law Project; League of American Orchestras; Maniago Safaris Ltd.; National Association of Music Merchants; Ornithological Council; Society for the Preservation of Natural History Collections; Species Survival Network; Sustainable Fisheries Association, Inc.; Wildlife Conservation Society; and World Wildlife Fund. We also received comments from one individual. In addition, we received comments from Global March for Elephants and Rhinos and Sustainable Fisheries Association, Inc. related to proposals to amend the CITES Appendices. Both of these comments were outside the scope of this Federal Register notice.

We considered all of the recommendations of the above individuals and organizations, as well as the factors described in the U.S. approach for CoP17 discussed in our June 27, 2014, Federal Register notice, when compiling a list of resolutions, decisions, and agenda items that the United States is likely to submit for consideration by the Parties at CoP17. We also compiled lists of resolutions, decisions, and agenda items for consideration at CoP17 that the United States either is currently undecided about submitting, is not considering submitting at this time, or plans to address in other ways. In compiling these lists, we also considered potential submissions that we identified internally. The United States may consider submitting documents for some of the issues for which it is currently undecided or not considering submitting at this time, depending on the outcome of discussions of these issues in the CITES Standing Committee, additional consultations with range country governments and subject matter experts, or comments we receive during the public comment period for this notice.

Please note that, under A, B, and C below, we have listed those resolutions, decisions, and agenda items that the United States is likely to submit, currently undecided about submitting, or currently planning not to submit. We have posted a supplementary document on our Web site at http://www.fws.gov/international/CITES/CoP17/index.html and at http://www.regulations.gov, with text describing in more detail each of these issues and explaining the rationale for the tentative U.S. position on each issue. Copies of the supplementary document are also available from the Division of Management Authority at the address in the ADDRESSES section.

We welcome your comments and information regarding the resolutions, decisions, and agenda items that the United States is likely to submit, currently undecided about submitting, or currently planning not to submit.

A. What resolutions, decisions, and agenda items is the United States likely to submit for consideration at CoP17?

Wildlife trafficking: Proposal for a document highlighting U.S. progress and leadership on efforts to combat wildlife trafficking.

B. On what resolutions, decisions, and agenda items is the United States still undecided, pending additional information and consultations?

1. Trade in live elephants: Proposal for a decision at CoP17 to review trade in live elephants to ensure that such trade is legal and conducted in compliance with CITES.

2. Trade in elephant ivory: Domestic ivory markets: Recommendation for the United States to work with key elephant range States and like-minded CITES Party countries to advocate, support, and propose a resolution to ban domestic elephant ivory trade, and support other countries' independent efforts to ban domestic elephant ivory trade; recommendation for submission of a working document encouraging the closure of legal domestic elephant ivory markets; recommendation for an amendment to Resolution Conf. 10.10 (Rev. CoP16) or a new resolution recommending that Parties close their domestic elephant ivory markets; and three recommendations that the United States advocate for a complete ban on global elephant ivory trade.

3. Trade in live rhinoceroses: Recommendation that live rhinoceros not be shipped outside of range countries.

4. Trade in rhinoceros horn: Synthetic products: Recommendation to submit a discussion document outlining the potential problems raised by the introduction of synthetic wildlife products, such as synthetic rhino horn, and examining ways that CITES might address these problems.

5. Trade in pangolins: Proposal for a resolution urging Parties to adopt and implement legislation and enforcement controls, including increased cooperation with other Parties, to reduce illegal trade in pangolins and to encourage the Secretariat and other appropriate bodies to assist those Parties lacking legislation.

6. Trade in sport-hunted trophies: Proposal for: A draft decision directing Parties that undertake voluntary wildlife trade policy reviews examine the probable impacts of lawful sport hunting on the survivability of the hunted species in the wild and provide the Secretariat with the results so that these may be shared with the Parties; a draft decision directing the Animals Committee to form a working group to examine the probable impacts of lawful sport hunting on the survivability of the hunted species in the wild and submit its findings to the Secretariat; and a draft decision directing the Secretariat to compile information received on this issue on its Web site, assist interested Parties in examining the probable impacts of lawful sport hunting on the survivability of the hunted species in the wild, organize a conference to examine the findings of the Animals Committee on the probable impacts of lawful sport hunting on the survivability of the hunted species in the wild, and report at SC69 and CoP18.

7. Marine species: Interpretation of CITES Article XIV, paragraphs 4 and 5: Proposal for a draft resolution to clarify the ambiguities that exist in Article XIV, paragraphs 4 and 5, with respect to implementation of the treaty for marine species.

8. Marine species: CITES National Legislation Project: Recommendation for a request to the Food and Agriculture Organization (FAO) to engage with the CITES National Legislation Project as it pertains to marine species.

9. Marine species: Sharks and rays: Proposal for submission of an agenda item to ensure that the outcomes of the working groups on sharks and rays and the deliberations of the Animals Committee and Standing Committee on sharks and rays are discussed and to ensure a discussion on capacity-building needs in the issuance of non-detriment findings for CITES-listed sharks and rays.

10. Marine species: Fish maw trade: Proposal for a decision at CoP17 to further explore the fish maw (swim bladder) trade to identify critical intervention points to ensure that this trade, which threatens two endangered species, can be stopped.

11. Wildlife trafficking: Proposal to submit an agenda item on the issue of wildlife trafficking and the transport industry to facilitate reporting to the CoP on U.S. and other initiatives.

12. Traveling with musical instruments: Recommendation that the United States: Support establishing more efficient and uniform procedures for issuing documents for international transport of musical instruments and inspecting and clearing such documents; and work with officials in other countries to ensure that concepts such as the musical instrument certificate and personal effects exemption for musical instruments containing CITES-listed species are adopted by all CITES Parties.

13. National CITES legislation: Proposal for an amendment to Resolution Conf. 8.4 (Rev. CoP15), on National laws for implementation of the Convention, to provide clear guidelines as to the criteria for inclusion in Categories 1, 2, and 3 under the CITES National Legislation Project; proposal to ensure that Decisions 16.33-16.38, on National laws for implementation of the Convention, are updated to account for changing dates and reference to CoP17; proposal for an overhaul of the CITES National Legislation Project to ensure that Parties have adequate CITES legislation and regulatory systems in place; and proposal for a decision to encourage the flow of dedicated funds to the Secretariat to carry out its work relative to the Project.

14. CoP Rules of Procedure: Secret ballots: Proposal to amend Rule 25 (Methods of Voting) of the Rules of Procedure of the Conference of the Parties (CoP) to eliminate voting by secret ballots except with respect to the election of officers.

15. CoP Rules of Procedure: Credentials and voting procedures for regional economic integration organizations: Proposal to amend the Rules of Procedure of the CoP so that they address two issues with respect to the participation of regional economic integration organizations at CoPs: Credentials and voting.

16. Annual reporting on seized specimens: Recommendation that the United States support mandatory annual reporting on illegal CITES trade, with the penalty for failure to report such trade similar to the penalty for failure to submit annual report.

17. Validated reference material: The United States is considering preparing discussion documents on the importance of providing validated reference material of newly listed species, especially timber species, so that appropriate labs and inspections authorities can develop forensic identification techniques.

18. Trade in timber species utilized for hongmu: Recommendation that the United States prepare a discussion document on the legal and illegal trade in timber for the production of traditional Chinese furniture and the potential to address this issue in CITES.

19. Nationally established Appendix-II export quotas: Recommendation that the United States consider submitting a document to CoP17 to examine the current implementation, enforcement, and benefits of the implementation of Resolution Conf. 14.7 (Rev. CoP15), management of nationally established export quotas.

20. CITES specimens accompanied by court-ordered CITES documents: Proposing a revision to CITES Resolution Conf. 12.3 (Rev. CoP16) recommending that: Exporting Parties not export specimens of CITES-listed species without evidence of legal origin of specimens of the species and without evidence of a non-detriment finding; and importing Parties reject shipments of specimens of CITES species accompanied by export permits issued under court order without the required CITES findings.

21. Administrative hosting arrangements: The United States is currently chairing a working group of the Standing Committee that is reviewing the administrative hosting arrangements between the United Nations Environment Programme and the CITES Secretariat and is considering submitting a document to CoP17 on this subject.

22. Youth participation: The United States is considering submitting a draft resolution exploring the opportunities and emphasizing the importance of youth participation in CITES fora.

C. What resolutions, decisions, and agenda items is the United States not likely to submit for consideration at CoP17, unless we receive significant additional information?

1. Trade in elephant specimens: Resolution Conf. 10.10 (Rev. CoP16): Proposal for: A comprehensive review of Resolution Conf. 10.10 (Rev. CoP16), on Trade in elephant specimens; a resolution or decision requiring Parties to report on their progress in implementing Resolution Conf. 10.10 (Rev. CoP16); and an amendment to Resolution Conf. 10.10 (Rev. CoP16) or a new resolution recommending that Parties close their domestic elephant ivory markets.

2. Trade in elephant ivory: Decision-making mechanism: Recommendation that: The United States call for greater transparency and wider consultation on development of a decision-making mechanism (DMM) for authorizing ivory trade and request that the background study, the terms of reference for the study, and related documents be made available on the CITES Web site for public comment before being finalized at SC66; the United States, as a member of the DMM Working Group, call for a suspension of the discussion on the DMM and oppose any proposals for international trade in elephant ivory or downlisting of elephant populations; and the United States advocate that Decision 16.55, concerning a decision-making mechanism for a process of trade in elephant ivory, not be renewed at CoP17.

3. Trade in elephant ivory: National Ivory Action Plans: Recommendation that the United States call for the publication on the CITES Web site of the National Ivory Action Plans of the primary concern countries, and the implementation reports by the primary concern countries, secondary concern countries, and the importance to watch countries, along with the feedback by the Secretariat on the content and implementation of the Plans; recommendation that the United States call for revision of the National Ivory Action Plans where appropriate to include meaningful milestones with timeframes for implementation, and evidence to measure the impact through specific indicators; recommendation that the United States call for trade suspensions for Tanzania until they can demonstrate progress in effectively addressing illegal trade in ivory; recommendation that the United States call for adoption of a moratorium on domestic ivory trade in China, Hong Kong, Thailand, and Japan, where domestic ivory markets are perpetuating illegal trade in ivory or licensed trade in ivory has facilitated illegal trade and has been used as a laundering mechanism for the trade in illegal ivory; recommendation that the United States call for destruction of ivory stockpiles following independent inventory and audit and DNA analysis for investigations; recommendation that the United States urge China, Thailand, and Viet Nam to detect, investigate, and apprehend the criminal networks using Laos as a hub for trafficking ivory and other wildlife; and recommendation that the United States call for Japan to be moved higher up on the National Ivory Action Plans list to “primary concern” and for Japan to adopt a National Ivory Action Plan, including a commitment to implement a domestic ivory trade ban.

4. Trade in elephant ivory: Stockpiles: Proposal for the United States to submit a document outlining the rationale for destruction of elephant ivory stockpiles, summarizing progress on the issue since CoP16, and encouraging all Parties to destroy their stockpiles.

5. Trade in rhinoceros horn: Recommendation urging the United States to oppose any proposals to legalize trade in rhinoceros horn, both domestically and internationally; and a recommendation to ensure that Parties are held accountable to the reporting requirements adopted at CoP17 with regard to actions to combat the illegal killing of and trade in rhinoceros horn.

6. Trade in cheetahs: Proposal for a document ensuring that the issue of illegal trade in cheetahs is on the agenda for CoP17.

7. Trade in African lions: Lion farming and trade in lion trophies: Recommendation that the United States submit a document proposing to end the practice of lion farming in South Africa and a document on the issue of lion farming for trade in their body parts; and a document proposing an end to the export and import of lion trophies.

8. Trade in African lions: Protections: Recommendation that the United States support any proposals for improving protection of African lions, including their up-listing.

9. Trade in Asian big cats: Recommendation that the United States: Ensure that the issue of Asia big cats is on the agenda for CoP17, primarily to call for a number of actions in advance of the CoP related to the illegal killing and trade in tigers and other Asian big cats; and consider calling for compliance measures to be enacted against Parties that fail to fulfill the called-for measures.

10. Trade in bears: Recommendation that the United States support proposals for improving protection for bears, including adopting measures to tackle the escalating trade in bear specimens.

11. Great apes: Recommendation that the United States ensure that the issue of great apes is on the agenda for CoP17.

12. Saiga antelope: Recommendation the United States ensure the issue of saiga antelope is on the agenda.

13. Trade in sport-hunted trophies: Proposal for the United States to ban the import of trophies of CITES-listed species.

14. Trade in hornbills and sandalwood: Recommendation that the United States urge source, transit, and consumer countries to demonstrate greater investment in proactive intelligence-led initiatives to target criminal networks and implement demand reduction strategies for red sandalwood (Pterocarpus santalinus) and helmeted hornbill (Rhinoplax vigil).

15. Trade in freshwater turtles and tortoises: Recommendation that the United States ensure that the issue of trade in tortoises and freshwater turtles is on the agenda of CoP17.

16. Marine species: Harmonized Tariff System (HTS) codes: Proposal for a draft resolution recommending that the Parties adopt a list of new 6-digit, 8-digit, and 10-digit HTS codes related to shark and cetacean species and commodities; and that the Parties adopt a CITES description code for `blubber” to use on CITES permits and in annual reports.

17. Marine species: Breeding cetaceans: Recommendation that the United States support establishing a clear policy regarding the breeding of rescued, wild cetaceans with their captive-bred counterparts.

18. Trade in rosewood and ebony: Recommendation that the United States support: Madagascar in its efforts to combat illegal harvest of and trade in rosewood (Dalbergia spp.) and ebony (Diospyros spp.); any proposal to improve the protection of Dalbergia cochinchinensis, Dalbergia oliveri, and Pterocarpus macrocarpus through proposals that may arise from regional discussions; and any proposal to strengthen existing CITES controls for Dalbergia cochinchinensis.

19. Wildlife trafficking: Proposal that the United States encourage a report from the United Kingdom on the London Conference on the Illegal Wildlife Trade, and from Botswana on the Kasane Conference on the Illegal Trade.

20. Traveling with musical instruments: Personal effects exemption: Recommendation that the United States support a personal effects exemption for musical instruments containing CITES-listed species and the implementation of an exemption for musical instruments containing CITES-listed species transported by cargo under a carnet.

21. Traveling with musical instruments: Commercial travel and de minimis exemption: Recommendation that the United States support extending the use of the musical instrument certificate to commercial travel and advocate for the adoption of a general de minimis exemption from CITES requirements for instruments containing small amounts of CITES-listed species.

22. CITES and livelihoods: Recommendation that the United States ensure that the issue of CITES and livelihoods is on the agenda for CoP17.

23. Enforcement matters: Establishment of a CITES Enforcement Working Group: Recommendation that the United States call for a CITES Enforcement Expert Working Group to be convened on a regular basis.

24. Enforcement matters: Adoption of indicators: Recommendation that the United States support the adoption of indicators of effective enforcement and call for Parties to fully implement such indicators.

25. Enforcement matters: tackling illegal trade through social media channels: Recommendation that the United States call for measures to be adopted for Parties to tackle illegal trade in CITES species through social media channels.

26. Enforcement matters: Amendment to Resolution Conf. 11.3 (Rev. CoP16), on Compliance and enforcement: Recommendation that the United States: Propose amendments to Resolution Conf. 11.3 (Rev. CoP16) to establish an enforcement working group to explore greater CITES emphasis on enforcement efforts; and recommend that Parties prohibit trade in animals and plants illegally taken, possessed, transported, or sold, similar to the U.S. Lacey Act.

27. CITES trade data reporting: Proposal for a resolution that describes in detail the need to accurately describe in CITES annual reports both the type of specimen being traded and the quantity of specimens, and that recommends that Parties issue permits and report trade using two units of measurement.

28. Purpose of Transaction codes on CITES permits: Proposal that the United States call for the consistent use of CITES Purpose of Transaction codes so that the same code is used on both import and export CITES documents.

29. Legal owner information on CITES permits: Proposal that the United States call for the disclosure of the legal owner of a specimen on the face of a CITES document.

30. Guidelines for making legal acquisition findings: Recommendation that the United States submit a document regarding the establishment of clear guidelines for Parties to use in making their CITES legal acquisition findings.

31. CITES document validation for scientific research: Recommendation that the United States propose to revise, suspend, or revoke the CITES document validation requirement for the movement of CITES-listed species for scientific research.

32. Primarily commercial purposes: Recommendation that the United States call for establishing clear criteria and guidelines to differentiate between “primarily commercial” purposes and “bona fide scientific research” purposes when making permit decisions.

33. Bred in captivity: Recommendation that the United States propose revisions to Resolutions Conf. 5.10 (Rev. CoP15), Conf. 10.16 (Rev.), and Conf. 12.10 (Rev. CoP15) to clarify the provisions of paragraphs 4 and 5 of CITES Article VII for specimens bred in captivity.

34. Laundering of wild-caught specimens: Recommendation that the United States submit the issue of laundering of wild-caught animals as captive-bred as a separate agenda item at CoP17.

35. Interval between CoPs: Proposal for an agenda item clarifying that CoPs should be 2 years apart, and that CoP18 should be held no later than October 2018.

36. Unlisted species: Recommendation that the United States propose a process to facilitate the identification of unlisted species that may benefit from listing in the CITES Appendices.

Request for Information and Comments

We invite information and comments concerning any of the proposed CoP17 resolutions, decisions, and agenda items discussed above. You must submit your information and comments to us no later than the date specified in DATES, above, to ensure that we consider them. Comments and materials received will be posted for public inspection on http://www.regulations.gov, and will be available by appointment, from 8 a.m. to 4 p.m., Monday through Friday, at the Division of Management Authority. Our practice is to post all comments, including names and addresses of respondents, and to make comments, including names and home addresses of respondents, available for public review during regular business hours.

There may be circumstances in which we would withhold from public review a respondent's name and/or address, as allowable by law. If you wish for us to withhold your name and/or address, you must state this prominently at the beginning of your comment, but we cannot guarantee that we will be able to do so. We will make all comments and materials submitted by organizations or businesses, and by individuals identifying themselves as representatives or officials of organizations or businesses, available for public inspection in their entirety.

Observers

Article XI, paragraph 7 of CITES states the following:

Any body or agency technically qualified in protection, conservation or management of wild fauna and flora, in the following categories, which has informed the Secretariat of its desire to be represented at meetings of the Conference by observers, shall be admitted unless at least one-third of the Parties present object:

(a) international agencies or bodies, either governmental or non-governmental, and national governmental agencies and bodies; and

(b) national non-governmental agencies or bodies which have been approved for this purpose by the State in which they are located.

Once admitted, these observers shall have the right to participate but not to vote.

Persons wishing to be observers representing international non-governmental organizations (which must have offices in more than one country) at CoP17 may request approval directly from the CITES Secretariat. Persons wishing to be observers representing U.S. national non-governmental organizations at CoP17 must receive prior approval from our Division of Management Authority. Once we grant our approval, a U.S. national non-governmental organization is eligible to register with the Secretariat and must do so at least 6 weeks prior to the opening of CoP17 to participate in CoP17 as an observer. Individuals who are not affiliated with an organization may not register as observers. An international non-governmental organization with at least one office in the United States may register as a U.S. non-governmental organization if it prefers.

Any organization that submits a request to us for approval as an observer should include evidence of their technical qualifications in protection, conservation, or management of wild fauna or flora, for both the organization and the individual representative(s). The request should include copies of the organization's charter and any bylaws, and a list of representatives it intends to send to CoP17. Organizations seeking approval for the first time should detail their experience in the protection, conservation, or management of wild fauna or flora, as well as their purposes for wishing to participate in CoP17 as an observer. An organization that we have previously approved as an observer at a meeting of the Conference of the Parties within the past 5 years must submit a request, but does not need to provide as much detailed information concerning its qualifications as an organization seeking approval for the first time. These requests should be sent to the Division of Management Authority at the address provided in ADDRESSES above, or via email at: managementauthority@fws.gov; or via fax at: 703-358-2298.

Once we approve an organization as an observer, we will inform them of the appropriate page on the CITES Web site where they may obtain instructions for registration with the CITES Secretariat, including a meeting registration form and travel and hotel information. A list of organizations approved for observer status at CoP17 will be available upon request from the Division of Management Authority just prior to the start of CoP17.

Future Actions

We expect the CITES Secretariat to provide us with a provisional agenda for CoP17 within the next several months. Once we receive the provisional agenda, we will publish it in a Federal Register notice and provide the Secretariat's Web site address. We will also provide the provisional agenda on our Web site at http://www.fws.gov/international/CITES/CoP17/index.html.

The United States will submit any proposed resolutions, decisions, and agenda items, as well as any species proposals, for consideration at CoP17 to the CITES Secretariat 150 days prior to the start of the meeting (i.e., by April 27, 2016). We will consider all available information and comments we receive during the comment period for this notice as we decide which proposed resolutions, decisions, and agenda items warrant submission by the United States for consideration by the Parties. With respect to our notice published on August 26, 2015 (80 FR 51830), we are considering all available information and comments we received during the comment period for that notice as we decide which species proposals warrant submission by the United States for consideration by the Parties. Approximately 4 months prior to CoP17, we will post on our Web site an announcement of the species proposals and proposed resolutions, decisions, and agenda items submitted by the United States to the CITES Secretariat for consideration at CoP17.

Through an additional notice and Web site posting in advance of CoP17, we will inform you about preliminary negotiating positions on resolutions, decisions, agenda items, and amendments to the Appendices proposed by other Parties for consideration at CoP17. We will also publish an announcement of a public meeting tentatively to be held approximately 2 to 3 months prior to CoP17, to receive public input on our positions regarding issues on the agenda for CoP17. The procedures for developing U.S. documents and negotiating positions for a meeting of the Conference of the Parties to CITES are outlined at 50 CFR 23.87. As noted at 50 CFR 23.87(c), we may modify or suspend the procedures outlined there if they would interfere with the timely or appropriate development of documents for submission to the meeting of the Conference of the Parties and of U.S. negotiating positions.

Author: The primary author of this notice is Mark Bellis, Division of Management Authority.

Authority: The authority for this action is the U.S. Endangered Species Act of 1973, as amended (16 U.S.C. 1531 et seq.).

Dated: November 25, 2015.
Robert Dreher,
Director, U.S. Fish and Wildlife Service.

[FR Doc. 2015-30593 Filed 12-3-15; 8:45 am]

BILLING CODE 4333-15-P